DEPARTMENT OF VETERANS AFFAIRS

[OMB Control No. 2900-0734]

Agency Information Collection: VA Form 27-0820, Report of General Information, VA Form 27-0820a, Report of Death of Veteran/Beneficiary, VA Form 27-0820b, Report of Nursing Home Information, VA Form 27-0820c, Report of Defense Finance and Accounting Service (DFAS), VA Form 27-0820d, Report of Lost Check, VA Form 27-0820e, Report of Incarceration, VA Form 27-0820f, Report of Contact-Month of Death Check

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before August 24, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0734” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0734.”

SUPPLEMENTARY INFORMATION:

Title: Report of General Information.

OMB Control Number: 2900-0734.

Type of Review: Revision of a currently approved collection.

Abstract: The forms will be used by VA personnel to document verbal information obtained telephonically from claimants or their beneficiary. The data collected will be used as part of the evidence needed to determine the claimant's or beneficiary's eligibility for benefits.

An agency may not conduct or sponsor, and a person is not required to respond to a collection of information unless it displays a currently valid OMB control number. The Federal Register Notice with a 60-day comment period soliciting comments on this collection of information was published at 80 FR 01665 on January 29, 2015.

Affected Public: Individuals or households.

Estimated Annual Burden: 212,500 (Total of: VA Form 27-0820(19,667), VA Form 27-0820a(6,667), VA Form 27-0820b (2,500) VA Form 27-0820c(2,500), VA Form 27-0820d(2,500), VA Form 27-0820e (833), and VA Form 27-0820f (833).

Estimated Average Burden per Respondent: 5 minutes.

Frequency of Response: One-time.

Estimated Number of Respondents: 2,550,000 (Total of: VA Form 27-0820 (2,360,000), VA Form 27-0820a (80,000), VA Form 27-0820b(30,000), VA Form 27-0820c (30,000), VA Form 27-0820d (30,000), VA Form 27-0820e (10,000), and VA Form 27-0820f (10,000)).

By direction of the Secretary.
Kathleen M. Manwell,
Program Analyst, VA Privacy Service, Office of Privacy and Records Management, Department of Veterans Affairs.

[FR Doc. 2015-18167 Filed 7-23-15; 8:45 am]

BILLING CODE 8320-01-P